DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Malcolm Baldrige National Quality Award and Examiner Applications.

OMB Control Number: 0693-0006.

Form Number(s): None.

Type of Request: Regular submission.

Number of Respondents: 900 (100—Awards; 800—Examiners).

Average Hours per Response: Award application, 74 hours; Examiner

Application, 1 hour.

Burden Hours: 8,200.

Needs and Uses: Public Law 100-107, the Malcolm Baldrige Quality Improvement Act of 1987, established an annual U.S. National Quality Award. The Secretary of Commerce leads, and NIST develops and manages the Award in corporation with the private sector. The purposes of the Award are to promote competitiveness and quality awareness, recognize the performance achievements of the U.S. companies, and to share successful strategies and practices. The law explicitly states that “An origination may qualify for an award only if it permits a rigorous evaluation of the way in which its business and other operations have contributed to improvements in quality.” The collection of the information required of the Award and Examiner applicants make it possible for NIST to evaluate the applications, grant the Awards, select Examiners, and comply with statutory responsibilities.

Affected Public: Business or other for-profit organizations; not-for-profit institutions; government entities. Individuals with expertise in the business, education, health care, and/or nonprofit fields are eligible to apply as a member to the Board of Examiners.

Frequency: Annually.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5167 or via the Internet at Jasmeet_K_Seehra@omb.eop.gov.

Dated: February 2, 2010.
Gwellnar Banks,
Management Analyst, Office of the Chief Information Officer.

[FR Doc. 2010-2513 Filed 2-4-10; 8:45 am]

BILLING CODE 3510-13-P